DEPARTMENT OF ENERGY

Federal Energy Regulatory Commission

[Project No. 1975-131]

Idaho Power Company; Notice of Effectiveness of Withdrawal of Application for Amendment of License

On December 6, 2024, Idaho Power Company (licensee) filed an application for a non-capacity amendment for the Bliss Project No. 1975.¹ On March 18, 2025, the licensee filed a notice of withdrawal of the request. The project is located on the Snake River in Gooding, Twin Falls, and Elmore Counties, Idaho. Part of the project occupies federal lands managed by the Bureau of Land Management.

¹ Idaho Power Company, 108 FERC ¶ 61,128 (2004).

No motion in opposition to the notice of withdrawal has been filed, and the Commission has taken no action to disallow the withdrawal. Pursuant to Rule 216(b) of the Commission's Rules of Practice and Procedure,² the withdrawal of the application became effective on April 3, 2025, and this proceeding is hereby terminated.

² 18 CFR 385.216(b) (2024).

Dated: April 4, 2025.
Debbie-Anne A. Reese,
Secretary.

[FR Doc. 2025-06152 Filed 4-9-25; 8:45 am]

BILLING CODE 6717-01-P